DEPARTMENT OF COMMERCE

International Trade Administration

[A-570-977]

High Pressure Steel Cylinders From the People's Republic of China: Rescission of Antidumping Duty Administrative Review; 2013-2014

AGENCY: Enforcement and Compliance, International Trade Administration, Department of Commerce.

SUMMARY: The Department of Commerce (“the Department”) is rescinding the administrative review of the antidumping duty order on high pressure steel cylinders from the People's Republic of China (“PRC”) for the period June 1, 2013, through May 31, 2014.

DATES: Effective Date: October 2, 2014.

FOR FURTHER INFORMATION CONTACT: Alexander Montoro, AD/CVD Operations, Office V, Enforcement and Compliance, International Trade Administration, Department of Commerce, 14th Street and Constitution Avenue NW., Washington, DC 20230; telephone: (202) 482-0238.

SUPPLEMENTARY INFORMATION:

Background

On July 31, 2014, based on a timely request for review by Norris Cylinder Company (“Norris”) and Beijing Tianhai Industry Co., Ltd. (“BTIC”),¹ the Department published in the Federal Register a notice of initiation of an administrative review of the antidumping duty order on high pressure steel cylinders from the PRC covering the period June 1, 2013, through May 31, 2014.² The review covers only BTIC.³ On September 9, 2014, Norris and BTIC withdrew their requests for an administrative review.⁴ No other party requested a review of this company or any other exporter of subject merchandise.

¹ See Request for Second Administrative Review of the Antidumping Duty Order on High Pressure Steel Cylinders from the People's Republic of China filed by BTIC on June 30, 2014, and see High Pressure Steel Cylinders from the People's Republic of China Revised Request for Administrative Review and Entry of Appearance filed by Norris on June 30, 2014.

² See Initiation of Antidumping and Countervailing Duty Administrative Reviews, 79 FR 44390 (July 31, 2014) (“Initiation Notice”).

³ Id., 79 FR 44392.

⁴ See Withdrawal of Request for an Administrative Review of Antidumping Duty Order on High Pressure Steel Cylinders from the People's Republic of China filed by Norris on September 9, 2014, and see Withdrawal of Review Request in the Administrative Review of Antidumping Duty Order on High Pressure Steel Cylinders from the People's Republic of China filed by BTIC on September 9, 2014.

Rescission of Review

Pursuant to 19 CFR 351.213(d)(1), the Department will rescind an administrative review, in whole or in part, if the party that requested the review withdraws its request within 90 days of the publication of the notice of initiation of the requested review. In this case, Norris and BTIC timely withdrew their requests by the 90-day deadline, and no other party requested an administrative review of the antidumping duty order. As a result, pursuant to 19 CFR 351.213(d)(1), we are rescinding the administrative review of high pressure steel cylinders from the PRC for the period June 1, 2013, through May 31, 2014, in its entirety.

Assessment

The Department will instruct U.S. Customs and Border Protect (“CBP”) to assess antidumping duties on all appropriate entries. Because the Department is rescinding this administrative review in its entirety, the entries subject to this administrative review shall be assessed antidumping duties at rates equal to the cash deposit of estimated antidumping duties required at the time of entry, or withdrawal from warehouse, for consumption, in accordance with 19 CFR 351.212(c)(1)(i). The Department intends to issue appropriate assessment instructions to CBP 15 days after the publication of this notice in the Federal Register, if appropriate.

Notifications

This notice serves as a final reminder to importers of their responsibility under 19 CFR 351.402(f)(2) to file a certificate regarding the reimbursement of antidumping duties prior to liquidation of the relevant entries during this review period. Failure to comply with this requirement could result in the Department's presumption that reimbursement of the antidumping duties occurred and the subsequent assessment of doubled antidumping duties.

This notice also serves as a final reminder to parties subject to administrative protective order (“APO”) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

This notice is issued and published in accordance with sections 751(a)(1) and 777(i) of the Tariff Act of 1930, as amended, and 19 CFR 351.213(d)(4).

Dated: September 24, 2014.
Christian Marsh,
Deputy Assistant Secretary for Antidumping and Countervailing Duty Operations.

[FR Doc. 2014-23558 Filed 10-1-14; 8:45 am]

BILLING CODE 3510-DS-P